ENVIRONMENTAL PROTECTION AGENCY

[FRL-7122-6 ]

EPA Science Advisory Board; Notification of Public Advisory Committee Meetings

Pursuant to the Federal Advisory Committee Act, Public Law 92-463, notice is hereby given that the Environmental Engineering Committee (EEC) of the US EPA Science Advisory Board (SAB) will meet via public teleconference on the dates and times noted below. All times noted are Eastern Time. All meetings are open to the public, however, seating is limited and available on a first come basis. Important Notice: Documents that are the subject of SAB reviews are normally available from the originating EPA office and are not available from the SAB Office—information concerning availability of documents from the relevant Program Office (if any) is included below. Subsequent teleconference meetings of the EEC are planned for March 13, 2002, May 1, 2002, July 3, 2002, September 4, 2002 and November 6, 2002. Information concerning these meetings will appear in future Federal Register notices.

1. Environmental Engineering Committee (EEC)—January 30, 2002

The Environmental Engineering Committee of the US EPA Science Advisory Board (SAB), will conduct a public teleconference meeting on January 30, 2002 in Room 6450C location, USEPA, Ariel Rios Building North, 1200 Pennsylvania Avenue, NW, Washington, DC 20004. The meeting will begin at 12:00 pm and adjourn no later than 2:00 pm. The meeting will be coordinated through a conference call connection in Room 6450C, USEPA, Ariel Rios Building North, 1200 Pennsylvania Avenue, NW, Washington, DC 20004. The public is encouraged to attend the meeting in the conference room noted above, however, the public may also attend through a telephonic link if lines are available. Additional instructions about how to participate in the conference call can be obtained by calling Mary Winston (see contact information below).

Purpose of the Meeting

The primary purpose of this meeting will be to review for approval the reports of the EEC's Surface Impoundments Study Subcommittee and the Risk Reduction Options Selection Subcommittee, if available. If the reports are not available, the time will be used to update the EEC on other activities of the SAB and for planning the committee's FY2002 activities. The Surface Impoundments Study Subcommittee reviewed Industrial Surface Impoundments in the United States for the Office of Solid Waste as announced in Federal Register notices 66 FR 30917-30920 June 8, 2001 and 66 FR 9671-49672 September 28, 2001. At the request of the Committee, the Risk Reduction Options Selection Subcommittee has prepared an update of the risk reduction options selection methodology first proposed in the SAB's Toward Integrated Environmental Decision-Making (EPA-SAB-EC-00-011—Please see http://www.epa.gov/sab/ecirp011.pdf).

Availability of Review Materials

The availability of Industrial Surface Impoundments in the United States was announced previously in the FRs cited above. The other task is self-initiated and there is no review document.

For Further Information—Please see below.

2. Environmental Engineering Committee (EEC)—January 31, 2002

The Environmental Engineering Committee of the EPA Science Advisory Board (SAB) will conduct a public teleconference meeting on January 31, 2002 between the hours of 12:00 noon and 2:00 pm (Eastern Daylight Time). The meeting(s) will be coordinated through a conference call connection in Room 6450C, USEPA, Ariel Rios Building North, 1200 Pennsylvania Avenue, NW, Washington, DC 20004. The public is encouraged to attend the meeting in the conference room noted above, however, the public may also attend through a telephonic link if lines are available. Additional instructions about how to participate in the conference call can be obtained by calling Mary Winston (see below).

Purpose of the Meeting

The purpose of this meeting is for staff from EPA's Office of Research and Development to provide background briefings sufficient for the Committee to plan the requested review of the Risk Management Evaluation (RME) Protocol. The review will NOT be conducted on this conference call.

The draft RME Protocol document was developed from the lessons learned and success stories from the focused pilot RME program, as well as from a review of the latest developments in risk management, including from outside of EPA. The draft Protocol provides a structure and format for: (a) Compiling state-of-the-science in risk management and assessment associated with a specific risk or set of risks; (b) identifying, evaluating, and prioritizing promising long-term and short-term risk management options to manage these risks (e.g., control technologies, pollution prevention measures, process modifications, remediation, best management practices, market-based incentives, social and behavioral measures); (c) evaluating feasibility, performance (risk reduction potential), cost, and applicability of these risk management strategies; (d) identifying gaps in the available data; (e) recommending future research efforts to reduce these data gaps; and (f) developing and providing tools/models to evaluate, prioritize and optimize these risk management options and reduce uncertainties in the data.

The overriding purpose of the draft RME Protocol is to formalize a foundation, structure and general approach for NRMRL, other ORD laboratories and centers, and others both within and outside of EPA, to identify areas where knowledge in risk management is currently sufficient to effectively manage risks, versus areas where additional research is required. In this way the Protocol will serve as a tool to assist ORD and other research groups in planning and prioritizing risk management research programs, as well as provide an approach to: (a) Analyze sources of potential, perceived or actual risk; (b) evaluate promising risk management options for adapting, preventing, and reducing these risks; and (c) evaluate the availability, cost and effectiveness of the identified options. It is envisioned that the RME Protocol will provide the basis for developing EPA risk management guidance documents.

Charge to the Subcommittee

The tentative charge, which will be the subject of further discussion and negotiation is:

(a) Is the document clear and internally consistent? Is it written at the proper level of technical depth and complexity? Is it adequately and appropriately referenced?

(b) Is the RME Protocol presented in the document logical, complete, and understandable?

(c) Is the RME Protocol an adequate and effective framework and guide for conducting risk management evaluations (RMEs)?

(d) Based on review of the draft RME Protocol and pilots, are risk management evaluations (RMEs) potentially effective and useful tools for enhancing risk management decisions, whether by EPA or others?

Availability of Review Materials

No review is being conducted at this meeting. The document to be eventually reviewed is still in the draft stages and unavailable to both the Committee and the public. When the review dates are set, an announcement will be published in the FR about the meeting and the availability of review materials. A one-page request for the review can be obtained from Ms. White (see below), or on the SAB website (www.epa.gov/SAB) prior to the meeting.

FOR FURTHER INFORMATION CONTACT: Any member of the public wishing further information concerning either of these teleconference meetings or who wishes to submit brief oral comments (3 minutes or less) must contact Ms. Kathleen White, Designated Federal Officer, EPA Science Advisory Board (1400A), U.S. Environmental Protection Agency, 1200 Pennsylvania Avenue, NW, Washington, DC 20460; telephone (202) 564-4559; FAX (202) 501-0582; or via e-mail at white.kathleen@epa.gov. Requests for oral comments must be in writing (e-mail, fax or mail) and received by Ms. White no later than noon Eastern Time January 23, 2002. An agenda or information on participation in either of the above teleconference meetings may be obtained from Ms. Mary Winston, Management Assistant, EPA Science Advisory Board (1400A), U.S. Environmental Protection Agency, 1200 Pennsylvania Avenue, NW, Washington, DC 20460; telephone: (202) 564-4538, FAX (202) 501-0582; or via e-mail at winston.mary@epa.gov.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the EPA Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Ms. White at least five business days prior to the meeting so that appropriate arrangements can be made.

Dated: December 18, 2001.
Donald G. Barnes,
Staff Director, EPA Science Advisory Board.

[FR Doc. 01-31940 Filed 12-27-01; 8:45 am]

BILLING CODE 6560-50-P